Title 3—

The President

Proclamation 8159 of July 2, 2007

Grant of Executive Clemency

By the President of the United States of America

A Proclamation

WHEREAS Lewis Libby was convicted in the United States District Court for the District of Columbia in the case United States v. Libby, Crim. No. 05-394 (RBW), for which a sentence of 30 months' imprisonment, 2 years' supervised release, a fine of $250,000, and a special assessment of $400 was imposed on June 22, 2007;

NOW, THEREFORE, I, GEORGE W. BUSH, President of the United States of America, pursuant to my powers under Article II, Section 2, of the Constitution, do hereby commute the prison terms imposed by the sentence upon the said Lewis Libby to expire immediately, leaving intact and in effect the two-year term of supervised release, with all its conditions, and all other components of the sentence.

IN WITNESS THEREOF, I have hereunto set my hand this second day of July, in the year of our Lord two thousand and seven, and of the Independence of the United States of America the two hundred and thirty-first.

[FR Doc. 07-3328

Filed 7-5-07; 11:34 am]

Billing code 3195-01-P